NATIONAL AERONAUTICS AND SPACE ADMINISTRATION

[Notice (07-047)]

NASA Advisory Council; Science Committee; Astrophysics Subcommittee; Meeting

AGENCY: National Aeronautics and Space Administration.

ACTION: Notice of meeting.

SUMMARY: The National Aeronautics and Space Administration (NASA) announces a meeting of the Astrophysics Subcommittee of the NASA Advisory Council (NAC). This Subcommittee reports to the Science Committee of the NAC. The Meeting will be held for the purpose of soliciting from the scientific community and other persons scientific and technical information relevant to program planning.

DATES: Wednesday, June 20, 2007, 8:30 a.m. to 5 p.m. and Thursday, June 21, 2007, 8:30 a.m. to 4 p.m. Eastern Daylight Time.

ADDRESSES: Hyatt Regency Crystal City, 2799 Jefferson Davis Highway, Arlington, VA 22202.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

• Astrophysics Division Overview and Program Status.

• Assessment of Astrophysics Fiscal Year 2007 Science Accomplishments.

• Astrophysics Science Planning Activities (NASA Science Plan 2009 and Decadal Survey Activities).

• Status of Hubble Space Telescope Program.

• Status of Stratospheric Observatory for Infrared Astronomy Program.

• Status of James Webb Space Telescope Program.

• Review of Astrophysics Science at the Moon Report and Associated NAC Recommendations.

It is imperative that the meeting be held on these dates to accommodate the scheduling priorities of the key participants. Attendees will be requested to sign a visitor's register.

Dated: June 7, 2007.
P. Diane Rausch,
Advisory Committee Management Officer, National Aeronautics and Space Administration

.

[FR Doc. E7-11330 Filed 6-12-07; 8:45 am]

BILLING CODE 7510-13-P